DEPARTMENT OF ENERGY

Notice of Orders Issued Under Section 3 of the Natural Gas Act During August 2018

AGENCY: Office of Fossil Energy, Department of Energy.

ACTION: Notice of orders.

| FE Docket Nos.
BLUEWATER GAS STORAGE, LLC | 18-89-NG
MERRILL LYNCH COMMODITIES, INC | 18-90-NG
EDGEMARC ENERGY PENNYSLYVANIA, LLC | 18-91-NG
EDGEMARC ENERGY OHIO, LLC | 18-92-NG
COPEQ TRADING CO | 18-87-NG
JORDAN COVE ENERGY PROJECT, L.P | 12-32-LNG
CAMERON LNG, LLC | 11-145-LNG
CIMA ENERGY, LP | 18-93-NG
TRANSCANADA PIPELINES LIMITED | 18-94-NG
TRIPOLARITY ENERGY CORPORATION | 18-95-NG
TRANSCANADA PIPELINES LIMITED | 18-96-NG
CLEANCOR ENERGY SOLUTIONS LLC | 18-97-NG
CENTRAL GENERADORA ELÉCTRICA HUINALÁ HUINALA, S. DE R.L. DE C.V | 18-98-NG
TECHGEN S.A. DE C.V | 18-99-NG
SIERRA PRODUCTION COMPANY | 18-100-NG
JM & RAL ENERGY INC | 18-102-NG
TRAFIGURA TRADING LLC | 18-110-LNG

SUMMARY: The Office of Fossil Energy (FE) of the Department of Energy gives notice that during August 2018, it issued orders granting authority to import and export natural gas, to import and export liquefied natural gas (LNG), to Amend Long-Term-Multi-Contract Authorization to Export LNG, and to Allow Electronic Service in Proceeding. These orders are summarized in the attached appendix and may be found on the FE website at https://www.energy.gov/fe/listing-doefe-authorizationsorders-issued-2018-0.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on September 21, 2018.
Amy Sweeney,
Director, Division of Natural Gas Regulation.

Appendix

DOE/FE Orders Granting Import/Export Authorizations
4223 | 08/01/18 | 18-89-NG | Bluewater Gas Storage, LLC | Order 4223 granting blanket authorization to import/export natural gas from/to Canada.
4224 | 08/01/18 | 18-90-NG | Merrill Lynch Commodities, Inc | Order 4224 granting blanket authority to import/export natural gas from/to Canada/Mexico.
4225 | 08/03/18 | 18-91-NG | Edgemarc Energy Pennsylvania, LLC | Order 4225 granting blanket authority to export natural gas to Canada.
4226 | 08/03/18 | 18-92-NG | Edgemarc Energy Ohio, LLC | Order 4226 granting blanket authority to export natural gas to Canada.
4227 | 08/08/18 | 18-87-NG | Copeq Trading Co | Order 4227 granting long-term authority to export natural gas to Mexico.
Unnumbered | 08/10/18 | 12-32-LNG | Jordan Cove Energy Project, L.P | Order allowing electronic service in proceeding.
3059-A | 08/13/18 | 11-145-NG | Cameron LNG, LLC | Order 3059-A Amending long-term Multi-Contract Authority to export LNG by vessel from the Cameron Terminal to Free Trade Agreement Nations.
4228 | 08/30/18 | 18-93-NG | CIMA Energy, LP | Order 4228 granting blanket authority to import/export natural gas from/to Canada/Mexico.
4229 | 08/30/18 | 18-94-NG | TransCanada PipeLines Limited | Order 4229 granting blanket authority to import/export natural gas from/to Canada.
4230 | 08/30/18 | 18-95-NG | Tripolarity Energy Corporation | Order 4230 granting blanket authority to import/export natural gas from/to Canada/Mexico.
4231 | 08/30/18 | 18-96-NG | TransCanada PipeLines Limited | Order 4231 granting long-term authority to import/export natural gas from/to Canada/Mexico.
4232 | 08/30/18 | 18-97-LNG | Cleancor Energy Solutions LLC | Order 4232 granting blanket authority to export LNG to Canada/Mexico by truck.
4233 | 08/30/18 | 18-98-NG | Central Generadora Eléctrica Huinalá, S. de R.L. de C.V | Order 4233 granting blanket authority to export natural gas to Mexico.
4234 | 08/30/18 | 18-99-NG | Techgen S.A. de C.V | Order 4234 granting blanket authority to export natural gas to Mexico.
4235 | 08/30/18 | 18-100-NG | Sierra Production Company | Order 4238 granting blanket authority to import natural gas from Canada.
4237 | 08/30/18 | 18-102-NG | JM & RAL Energy Inc | Order 4237 granting blanket authority to export natural gas to Mexico.
4238 | 08/30/18 | 18-110-NG | Trafigura Trading LLC | Order 4238 granting blanket authority to import/export natural gas from/to Canada/Mexico.

[FR Doc. 2018-20915 Filed 9-25-18; 8:45 am]

BILLING CODE 6450-01-P